DEPARTMENT OF THE INTERIOR

Bureau of Land Management

(UT-941-1420-00-241A )

Survey Plat Filings: Utah

AGENCY: Bureau of Land Management.

ACTION: Notice of filing cadastral survey township plats.

SUMMARY: Notice is hereby given that the Utah Bureau of Land Management, Cadastral Survey Branch has transmitted the following list of Original Cadastral Survey Plats to the Chief for Public Services and Land Records Section, Utah State Office, Bureau of Land Management on February 2, 2000. The following list of official documents was also transmitted by certified mail to the Director for the Denver Service Center (SC-675), Bureau of Land Management on January 26, 2000. The memorandum addressed a request for copies of microfilm for each survey group, that can be put on file with the Information Access Center, Utah State Office, Bureau of Land Management.

Group | Township | Range | Meridian | Approved | Type
0780 | T29S | R24E | SLM | 99-05-14 | Dep. Res.
0781 | T01N | R04W | USM | 99-03-30 | Dep. Res.
0799 | T03S | R05W | USM | 99-05-18 | Dep. Res.
0799 | T04S | R05W | USM | 99-05-18 | Dep. Res.
0800 | T01S | R03W | USM | 99-05-18 | Dep. Res.
0814 | T02S | R04E | SLM | 99-06-16 | Dep. Res.
0814 | T02S | R05E | SLM | 99-06-16 | Dep. Res.
0814 | T03S | R05E | SLM | 99-06-16 | Dep. Res.
0814 | T02S | R04E | SLM | 99-06-16 | Dep. Res.
0814 | T02S | R05E | SLM | 99-06-16 | Dep. Res.
0814 | T03S | R04E | SLM | 99-06-16 | Dep. Res.
0815 | T02N | R01E | USM | 99-01-11 | Dep. Res.
0816 | T02N | R02W | USM | 99-01-11 | Dep. Res.
0817 | T02S | R01E | USM | 99-01-11 | Dep. Res.
0818 | T03S | R03W | USM | 99-01-11 | Dep. Res.
0820 | T31S | R02W | SLM | 99-02-01 | Dep. Res.
0826 | T11N | R07W | SLM | 98-06-01 | Dep. Res.
0826 | T11N | R08W | SLM | 98-06-01 | Dep. Res.
0826 | T12N | R07W | SLM | 98-06-01 | Dep Res.
0826 | T12N | R08W | SLM | 98-06-01 | Dep. Res.
0837 | T04S | R08W | USM | 99-02-01 | Dep. Res.
0837 | T04S | R08W | USM | 99-02-01 | Dep. Res.
0837 | T04S | R09W | USM | 99-02-01 | Dep. Res.
0841 | T26S | R09W | SLM | 99-02-01 | Dep. Res.
0841 | T27S | R10W | SLM | 99-02-01 | Dep. Res.
0845 | T02N | R22E | SLM | 99-04-30 | Dep. Res.
0845 | T02N | R22E | SLM | 99-04-30 | Dep. Res.
0845 | T02N | R22E | SLM | 99-04-30 | Dep. Res.
0845 | T02N | R22E | SLM | 99-04-30 | Dep. Res.
0845 | T02N | R22E | SLM | 99-04-30 | Dep. Res.
0845 | T02N | R22E | SLM | 99-11-30 | Dep. Res.
0847 | T43S | R16W | SLM | 98-06-25 | Dep. Res.
0849 | T12S | R03W | SLM | 99-05-21 | Dep. Res.
0850 | T11S | R03W | SLM | 99-05-21 | Dep. Res.
0861 | T14S | R02W | SLM | 99-02-01 | Dep. Res.
0861 | T15S | R02W | SLM | 99-02-01 | Dep. Res.
0862 | T15S | R03W | SLM | 99-02-01 | Dep. Res.
0863 | T15S | R01W ½ | SLM | 99-02-01 | Dep. Res.
0865 | T11S | R05W | SLM | 99-05-28 | Dep. Res.
0867 | T18S | R14E | SLM | 99-05-21 | Dep. Res.
0873 | T12S | R05W | SLM | 99-05-18 | Dep. Res.
0879 | T30S | R03W | SLM | 99-03-17 | Dep. Res.
0881 | T42S | R14W | SLM | 98-05-18 | Dep. Res.
0882 | T35S | R12W | SLM | 99-03-11 | Dep. Res.
0882 | T35S | R12W | SLM | 99-03-11 | Dep. Res.
0883 | T41S | R13W | SLM | 98-10-13 | Dep. Res.
0889 | T21S | R10W | SLM | 98-12-08 | Dep. Res.
0889 | T22S | R10W | SLM | 98-12-08 | Dep. Res.
0891 | T12N | R02E | SLM | 99-02-01 | Dep. Res.
0893 | T09S | R08E | SLM | 00-01-12 | Dep. Res.
0894 | T25S | R18E | SLM | 99-05-18 | Dep. Res.
0900 | T41S | R14W | SLM | 00-01-12 | Dep. Res.
0900 | T42S | R12W | SLM | 00-01-12 | Dep. Res.
0246S | T43S | R15W | SLM | 98-05-19 | Supplemental.
0247S | T43S | R16W | SLM | 98-09-22 | Supplemental.
0248S | T41S | R13W | SLM | 98-09-22 | Supplemental.
0249S | T28S | R04W | SLM | 99-06-08 | Supplemental.
7371C | T13N | R13W | SLM | 99-07-30 | Mineral.
7377B | T13S | R12W | SLM | 99-02-26 | Mineral.
7386 | T03S | R03W | SLM | 98-02-20 | Mineral.
7387 | T03S | R03W | SLM | 98-02-20 | Mineral.
7388 | T03S | R03W | SLM | 98-02-20 | Mineral.
7390A | T21S | R10W | SLM | 99-01-27 | Mineral.
7390B | T21S | R10W | SLM | 99-01-27 | Mineral.
7390C | T21S | R10W | SLM | 99-01-27 | Mineral.
7391A | T22S | R10W | SLM | 99-01-27 | Mineral.
7391B | T22S | R10W | SLM | 99-01-27 | Mineral.
7392A | T22S | R10W | SLM | 99-01-27 | Mineral.
7392B | T22S | R10W | SLM | 99-01-27 | Mineral.
7393A | T21S | R09W | SLM | 99-01-27 | Mineral.
7393B | T21S | R09W | SLM | 99-01-27 | Mineral.
7394 | T22S | R10W | SLM | 99-01-27 | Mineral.
7395A | T22S | R10W | SLM | 99-01-27 | Mineral.
7395B | T22S | R10W | SLM | 99-01-27 | Mineral.
0032P | TOWNSHIP INDEX |  | SLM | 98-05-22 | Protraction.
0033P | T15N | R02E | SLM | 98-05-22 | Protraction.
0034P | T14N | R02E | SLM | 98-05-22 | Protraction.
0035P | T13N | R02E | SLM | 98-05-22 | Protraction.
0036P | T15N | R03E | SLM | 98-05-22 | Protraction.
0037P | T13N | R03E | SLM | 98-05-22 | Protraction.
0038P | T15N | R04E | SLM | 98-05-22 | Protraction.
0039P | TOWNSHIP INDEX |  | SLM | 98-05-22 | Protraction.
0040P | T03S | R08W | SLM | 98-05-22 | Protraction.
0041P | T03S | R07W | SLM | 98-05-22 | Protraction.
0042P | T04S | R07W | SLM | 98-05-22 | Protraction.

Dated: February 15, 2000.
Daniel W. Webb,
Chief, Cadastral Surveyor for Utah.

[FR Doc. 00-4068 Filed 2-18-00; 8:45 am]

BILLING CODE 4310-DQ-P